DEPARTMENT OF STATE

[Public Notice 7738]

Determination Under the Foreign Assistance Act of 1961, as Amended, Relating to Assistance to St. Kitts and Nevis

Pursuant to the authority vested in me by Section 620(q) of the Foreign Assistance Act of 1961, as amended (FAA); Executive Order 12163, as amended by Executive Order 13346; and Delegation of Authority 245-1, I hereby determine that continued assistance to St. Kitts and Nevis from the date upon which the restriction took effect is in the national interest of the United States and thereby waive the application of section 620(q) of the FAA for such assistance.

This Determination shall be reported to Congress and published in the Federal Register.

Dated: December 8, 2011.
Thomas R. Nides,
Deputy Secretary of State for Management and Resources.

[FR Doc. 2011-32810 Filed 12-21-11; 8:45 am]

BILLING CODE 4710-29-P